DEPARTMENT OF ENERGY

Federal Energy Regulatory Commission

Notice of Commission Staff Attendance

The Federal Energy Regulatory Commission hereby gives notice that members of the Commission's staff may attend the following meetings and/or teleconferences related to the transmission planning activities of the Southwest Power Pool, Inc. (SPP):

SPP Strategic Planning Committee

July 19, 2012, 8:00 a.m.-3:00 p.m.

The above-referenced meeting will be held at: Marriot Country Club Plaza, 4445 Main Street, Kansas City, MO 64111.

The above-referenced meeting and teleconference are open to stakeholders.

Further information may be found at www.spp.org.

The discussions at the meetings and teleconferences described above may address matters at issue in the following proceedings:

Docket No. ER09-35-001, Tallgrass Transmission, LLC

Docket No. ER09-36-001, Prairie Wind Transmission, LLC

Docket No. ER09-548-001, ITC Great Plains, LLC

Docket No. ER11-4105-000, Southwest Power Pool, Inc.

Docket No. EL11-34-001, Midwest Independent Transmission System Operator, Inc.

Docket No. ER12-1179-000, Southwest Power Pool, Inc.

Docket No. ER12-1415-000, Southwest Power Pool, Inc.

Docket No. ER12-1460-000, Southwest Power Pool, Inc.

Docket No. ER12-1610-000, Southwest Power Pool, Inc.

Docket No. ER12-1772-000, Southwest Power Pool, Inc.

For more information, contact Luciano Lima, Office of Energy Markets Regulation, Federal Energy Regulatory Commission at (202) 502-6210 or luciano.lima@ferc.gov.

Dated: July 13, 2012.
Nathaniel J. Davis, Sr.,
Deputy Secretary.

[FR Doc. 2012-17585 Filed 7-18-12; 8:45 am]

BILLING CODE 6717-01-P